DEPARTMENT OF HOUSING AND URBAN DEVELOPMENT

[Docket No. FR-5909-N-28]

30-Day Notice of Proposed Information Collection: Ginnie Mae Mortgage-Backed Securities Guide 5500.3, Revision 1 (Forms and Electronic Data Submissions)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: May 16, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Anna P. Guido, Reports Management Officer, QDAM, Department of Housing and Urban Development, 451 7th Street SW., Washington, DC 20410; email Anna P. Guido at Anna.P.Guido@hud.gov or telephone 202-402-5533. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on November 10, 2014 at 79 FR 66736.

A. Overview of Information Collection

Title of Information Collection: Ginnie Mae Mortgage-Backed Securities Guide 5500.3, Revision 1 (Forms and Electronic Data Submissions).

OMB Control Number: 2503-0033.

Type of Request: Revision of a currently approved collection.

Form Number: 11700, 11701, 11702, 11703-II, 11704, 11705, 11705H, 11706, 11706H, 11707, 11708, 11709, 11709-A, 11710A, 1710-B, 1710-C, 11710D, 117010DH, 11710E, 11711-A, 11711-B, 11714, 11714-SN, 11715, 11720, and 11732.

Description of the need for the information and proposed use: Due to the elimination of the application used for Fingerprint Enrollment used by Ginnie Mae issuers and document custodians to access the GinnieNET system, Ginnie Mae is revising our Appendix III-29 to include the following:

The name of the appendix will be changed to: Ginnie Mae Systems Access Appendix will have six (6) clearing defined sections. They are as follows:

Appendix III-29: Instructions: Incorporates language to make the Appendix applicable to Ginnie Mae's GinnieNET system as well as the Ginnie Mae GMEP system. It clarifies the relationship of the Appendix to Ginnie Mae form HUD 11708.

Appendix III-29 (A): Issuer Security Officer Registration: Incorporates language to make the Appendix applicable to Ginnie Mae's GinnieNET system as well as the Ginnie Mae GMEP system.

Appendix III-29 (B): User Registration for Issuer Only: Incorporates language to ensure the user acknowledgements and signed rules of behavior that encompass the use of the GinnieNET system. Adding a Ginnie NET section with two (2) check boxes to the following types of GinnieNET functions: GinnieNET RSA SecurID Token Holder and GinnieNET User.

Appendix III-29 (C): Custodian Security Officer Registration: Incorporates language to make the Appendix applicable to Ginnie Mae's GinnieNET system as well as the Ginnie Mae GMEP system.

Appendix III-29 (D): Custodian User Registration: Incorporates language to ensure the user acknowledgements and signed rules of behavior that encompass the use of the GinnieNET system. Adding a check box for GinnieNET SecurID Token Holder.

Appendix III-29 (E): RSA SecurID Token Request New form to be used by Ginnie Mae Issuers and Document Custodians to obtain the required RSA Token and identify user access

As a result of the revisions to Appendix III-29, Ginnie Mae will be eliminating the use of Appendix III-14 (Enrollment Administrator and GinnieNET Authorized Signatories.

With the implementation of Ginnie Mae's streamlined investor reporting under the revised Appendix VI-19, the following appendices will be eliminated: Appendix VII-1 for MBS reporting and Appendix VII-2 for HMBS reporting. As part of this streamlined investor reporting process, in order to capture RFS exceptions listed in Appendix VI-19, Ginnie Mae has released Appendix VI-14 (Multifamily Prepayment Penalty Record File Layout and Appendix VI-16 (Quarterly Custodial Account Verification Record File Layout).

Due to the increase in the number of Ginnie Mae active issuers in our HMBS program, Ginnie Mae is now including Forms 11705H/11706H—Appendix III-28 (Schedule of Subscribers and Ginnie Mae Guaranty Agreement and Pool Participations—HMBS Pooling Import File Layout in our collection. This form combines both the 11705H and 11706H (Appendix III-28) into one import file layout.

The addition of the new sections Appendix III-29, additions of Appendix VI-14, Appendix IV-16, Appendix III-28 and the elimination of Appendix III-14, Appendix VII-1 and Appendix VII-2 is the reason for the change of burden hours.

The initially scheduled name change of Appendix III-13 from Electronic Data Interchanges System Agreement to Electronic Data Transfer Agreement and the addition of the phrase: Law of the District of Columbia in Section 4.7 will take place at a later date.

There are 20 forms and appendices in our collection which are volume driven rather than participant driven: These have increased as our portfolio has grown.

Included in the Guide are the appendices, forms, and documents necessary for Ginnie Mae to properly administer its MBS programs.

While most of the calculations are based on number of respondents multiplied by the frequency of response, there are several items whose calculations are based on volume.

Form | Appendix No. | Title | Number of respondents | Frequency of responses per year | Total annual responses | Hours per response | Total annual hours
11700 | 11-1 | Letter of Transmittal | 329.000 | 4 | 1,316.000 | 0.033 | 43.428
11701 | 1-1 | Application for Approval Ginnie Mae Mortgage-Backed Securities Issuer | 100.000 | 1 | 100.000 | 3.000 | 300.000
11702 | 1-2 | Resolution of Board of Directors and Certificate of Authorized Signatures | 454.000 | 1 | 454.000 | 0.800 | 363.200
11703-H | 1-7 | Master Agreement for Participation Accounting | 14.000 | 1 | 14.000 | 0.800 | 11.200
11704 | 11-2 | Commitment to Guaranty Mortgage-Backed Securities | 329.000 | 4 | 1,316.000 | 0.033 | 43.428
11707 | 111-1 | Master Servicing Agreement | 468.000 | 1 | 468.000 | 0.033 | 15.444
11709 | 111-2 | Master Agreement for Servicer's Principal and Interest Custodial Account | 468.000 | 1 | 468.000 | 0.033 | 15.444
11715 | 111-4 | Master Custodial Agreement | 468.000 | 1 | 468.000 | 0.033 | 15.444
11720 | 111-3 | Master Agreement for Servicer's Escrow Custodial Account | 468.000 | 1 | 468.000 | 0.033 | 15.444
11732 | 111-22 | Custodian's Certification for Construction Securities | 55.000 | 1 | 55.000 | 0.016 | 0.880
| IX-1 | Financial Statements and Audit Reports | 468.000 | 1 | 468.000 | 1.000 | 468.000
|  | Mortgage Bankers Financial Reporting Form | 315.000 | 4 | 1,260.000 | 0.500 | 630.000
11709-A | 1-6 | ACH Debit Authorization | 468.000 | 1 | 468.000 | 0.033 | 15.444
11710 D | VI-5 | Issuer's Monthly Summary Reports | 315.000 | 12 | 3,780.000 | 0.130 | 491.400
11710A, 1710B, 1710C &11710E | VI-12 | Issuer's Monthly Accounting Report and Liquidation Schedule | 315.000 | 1 | 315.000 | 0.130 | 40.950
11710-DH | VI-21 | HMBS Issuer's Monthly Summary Report | 14.000 | 12 | 168.000 | 0.130 | 21.840
| 111-13 | Electronic Data Interchanges System | 100.000 | 1 | 100.000 | 1.000 | 100.000
| 1-4 | Cross Default Agreement | 10.000 | 1 | 10.000 | 0.050 | 0.500
| VI-18 | WHFIT Reporting | 329.000 | 4 | 1,316.000 | 0.130 | 171.080
| 111-29 | Systems Access Forms | 517.000 | 1 | 517.000 | 2.000 | 1,034.000
| VIII-1 | Ginnie Mae Acknowledgement Agreement and Accompanying Documents Pledge of Servicing | 10.000 | 1 | 10.000 | 1.000 | 10.000
| VI-14 | Multifamily Prepayment Penalty Record File Layout | 22.000 | 12 | 264.000 | 0.050 | 13.200
| VI-16 | Quarterly Custodial Account Verification Record File Layout | 302.000 | 4 | 1,208.000 | 0.500 | 604.000
The burden for the Items listed below is based on volume and/or number of requests.
11705 | 111-6 | Schedule of Subscribers and Ginnie Mae Guaranty Agreement | 3,500.000 | 12 | 42,000.000 | 0.050 | 2,100.000
11706 | 111-7 | Schedule of Pooled Mortgages | 3,500.000 | 12 | 42,000.000 | 0.800 | 33,600.000
11705H & 11706H | 111-28 | Schedule of Subscribers and Ginnie Mae Guaranty Agreement—HMBS Pooling—Import File Layout | 80.000 | 12 | 960.000 | 0.050 | 48.000
11708 | V-5 | Document Release Request | 329.000 | 1 | 329.000 | 0.050 | 16.450
| VI-19 | Monthly Pool and Loan Level Report (RFS) | 400,000.000 | 12 | 4,800,000.000 | 0.500 | 2,400,000.000
| XI-6, XI-8, XI-9 | Soldiers' and Sailors' Quarterly Reimbursement Request and SSCRA Loan Eligibility Information | 2,000.000 | 4 | 8,000.000 | 0.033 | 264.000
11711A & 11711B | 111-5 | Release of Security Interest and Certification and Agreement | 678,000.000 | 1 | 678,000.000 | 0.050 | 33,900.00
11714 & 11714SN | VI-10, VI-11 | Issuer's Monthly Remittance Advice and Issuer's Monthly Serial Note Remittance Advice | 4,700.000 | 12 | 56,400.000 | 0.016 | 902.400
| VI-2 | Letter for Loan Repurchase | 50.000 | 12 | 600.000 | 0.033 | 19.800
| 111-21 | Certification Requirements for the Pooling of Multifamily Mature Loan Program | 298.000 | 1 | 298.000 | 0.050 | 14.900
| VI-9 | Request for Reimbursement of Mortgage Insurance Claim Costs for Multifamily Loans | 21.000 | 1 | 21.000 | 0.250 | 5.250
| VIII-3 | Assignment Agreements | 67.000 | 1 | 67.000 | 0.130 | 8.710
| 111-9 | Authorization to Accept Facsimile Signed Correction Request Forms | 329.000 | 12 | 3,948.000 | 0.016 | 63.168
| VI-17 | HMBS Issuer Specification for MBSAA | 3,200.000 | 12 | 38,400.000 | 0.130 | 4,992.000
Total |  |  |  | Varies | 48,886,034 | Varies | 24,080,359

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 8, 2016.
Anna P. Guido,
Department Paperwork Reduction Act Officer, Office of the Chief Information Officer.

[FR Doc. 2016-08623 Filed 4-13-16; 8:45 am]

BILLING CODE 4210-67-P